DEPARTMENT OF HEALTH AND HUMAN SERVICES

National Institutes of Health

Center for Scientific Review; Amended Notice of Meeting

Notice is hereby given of a change in the meeting of the Biological Rhythms and Sleep Study Section, June 4, 2008, 8 a.m. to June 4, 2008, 5 p.m., Admiral Fell Inn, 888 South Broadway, Baltimore, MD 21231 which was published in the Federal Register on April 4, 2008, 73 FR 18539-18542.

The meeting will be held at the Pier 5 Hotel, 711 Eastern Avenue, Baltimore, MD 21202. The meeting date and time remain the same. The meeting is closed to the public.

Dated: May 16, 2008.
Jennifer Spaeth,
Director, Office of Federal Advisory Committee Policy.

[FR Doc. E8-11562 Filed 5-22-08; 8:45 am]

BILLING CODE 4140-01-M